DEPARTMENT OF HOMELAND SECURITY

Coast Guard

[Docket No. USCG-2008-0816]

Merchant Marine Personnel Advisory Committee; Meetings

AGENCY: Coast Guard, DHS.

ACTION: Notice of meetings.

SUMMARY: The Merchant Marine Personnel Advisory Committee (MERPAC) will meet in Nashville, TN, to discuss various issues relating to the training and fitness of merchant marine personnel. These meetings will be open to the public.

DATES: MERPAC will meet on Tuesday, September 23, 2008, and Wednesday, September 24, 2008, from 8 a.m. until 4 p.m. These meetings may close early if all business is finished. Written material and requests to make oral presentations should reach the Coast Guard on or before September 10, 2008. Requests to have a copy of your material distributed to each member of the committee should reach the Coast Guard on or before September 10, 2008.

ADDRESSES: The Committee will meet at the Innovation Center at Vanderbilt University Center for Better Health, 3401 West End Avenue, Suite 100, Nashville, TN. Send written material and requests to make oral presentations to Captain Michael Blair, Designated Federal Officer (DFO) of MERPAC, at Commandant (CG-5221), U.S. Coast Guard, 2100 Second St., SW., Washington, DC 20593-0001. This notice, as well as all task statements discussed in this notice, may be viewed in our online docket, USCG-2008-0816, at http://www.regulations.gov.

FOR FURTHER INFORMATION CONTACT: Mr. Mark Gould, Assistant to the DFO of MERPAC, at 202-372-1409.

SUPPLEMENTARY INFORMATION: Notice of these meetings is given under the Federal Advisory Committee Act, 5 U.S.C. App. (Pub. L. 92-463).

Agenda of Meeting

The agenda for the September 23, 2008, Committee meeting is as follows:

(1) The full committee will meet to discuss the objectives for the meeting.

(2) Working groups addressing the following task statements may meet to deliberate—

(a) Task Statement 30, concerning “Utilizing Military Sea Service for STCW Certifications”;

(b) Task Statement 58, concerning “Stakeholder Communications During MLD Program Restructuring and Centralization”; and

(c) Task Statement 64, concerning “Recommendations on areas in the STCW Convention and the STCW Code identified for comprehensive review”.

(3) New working groups may be formed to address issues proposed by the Coast Guard, MERPAC members, or the public.

(4) At the end of the day, the working groups will make a report to the full committee on what has been accomplished in their meetings. No action will be taken on these reports on this date.

The agenda for the September 24, 2008, Committee meeting is as follows:

(1) Introduction;

(2) Working Groups' Reports; and

(3) Other items which may be discussed:

(a) Standing Committee—Prevention Through People.

(b) Briefings concerning ongoing projects of interest to MERPAC.

(c) Other items brought up for discussion by the Committee or the public.

(4) At the end of the day, the working groups will make a report and, if applicable, recommendations for the full committee to consider for presentation to the Coast Guard. Official action on these recommendations may be taken on this date.

Procedural

These meetings will be open to the public. Please note that the meetings may close early if all business is finished. At the Chair's discretion, members of the public may make oral presentations during the meetings. If you would like to make an oral presentation at a meeting, please notify the DFO no later than September 10, 2008. Written material for distribution at a meeting should reach the Coast Guard no later than September 10, 2008. If you would like a copy of your material distributed to each member of the committee in advance of a meeting, please submit 25 copies to the DFO no later than September 10, 2008.

Information on Services for Individuals With Disabilities

For information on facilities or services for individuals with disabilities or to request special assistance at the meetings, contact the DFO as soon as possible.

Dated: August 7, 2008.
J. G. Lantz,
Director of Commercial Regulations and Standards.

[FR Doc. E8-19524 Filed 8-21-08; 8:45 am]

BILLING CODE 4910-15-P